DEPARTMENT OF TRANSPORTATION

Federal Aviation Administration

Notice of Passenger Facility Charge (PFC) Approvals and Disapprovals

AGENCY: Federal Aviation Administration (FAA), DOT.

ACTION: Monthly notice of PFC approvals and disapprovals. In May 2000, there were eight applications approved. This notice also includes information on one application, approved in April 2000, inadvertently left off the April 2000 notice. Additionally, nine approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L 101-508) and part 158 of the Federal Aviation Regulations (14 (CFR part 158). This notice is published pursuant to paragraph (d) of § 158.29.

PFC Applications Approved

Public Agency: Tulsa airport Authority, Tulsa, Oklahoma.

Application Number: 00-04-C-TUL.

Application Type: Impose and use a PFC.

PFC Level: $3.00.

Total PFC Revenue Approved in This Decision: $13,500,000.

Earliest Charge Effective Date: July 1, 2000.

Estimated Charge Expiration Date: July 1, 2003.

Class of Air Carriers Not Required to Collect PFC's: None

Brief Description of Project Approved for Collection and Use:

Terminal security and flight information display improvements.

Conduct noise mitigation.

Terminal interior improvements.

Airfield drainage improvements.

Airfield snow removal equipment (SRE) building improvements.

Terminal access improvements.

Decision Date: April 27, 2000.

FOR FURTHER INFORMATION CONTACT:

G. Thomas Wade, Southwest Region Airports Division, (817) 222-5613.

Public Agency: City and Borough of Juneau, Juneau, Alaska.

Application Number: 00-02-C-00-JNU.

Application Type: Impose and use a PFC.

PFC Level: $3.00.

Total PFC Revenue Approved in this Decision: $357,820.

Earliest Charge Effective Date: August 1, 2000.

Estimated Charge Expiration Date: July 1, 2001.

Class of Air Carriers not Required to Collect PFC's: (1) All air carriers operating between Juneau International Airport (JNU) and Chatham, Alaska; (2) all air carriers operating between JNU and Funter Bay, Alaska; (3) all air carriers operating between JNU and Gustavus, Alaska; (4) all air carriers operating between JNU and Petersburg, Alaska; (5) all air carriers operating between JNU and Wrangell, Alaska; (6) all air carriers operating between JNU and Yakutat, Alaska; (7) all air carriers operating between JNU and Cordova, Alaska; and (8) all air carriers enplaning 1,000 or less passengers annually at JNU.

Determination: Approved. Based on information contained in the public agency's application, the FAA has determined that the eight class listed above accounts for less than 1 percent of the total annual enplanments at JNU and is approved. For referenced exclusions (1) through (7) above, the FAA's approval is based on changes in legislation as described below and under the limitations set forth under § 158.9(a), which precludes imposition of a PFC on any passenger on any flight to an eligible point on an air carrier that receives essential air service (EAS) compensation on that route. Subsequent to the filing of this application, a provision of the “Wendell H. Ford Aviation Investment and Reform Act for the 21st Century” (Ford Act), Pub. L. 106-181 (April 5, 2000), amended 49 U.S.C. 40117(e)(2) to add the following, “A passenger facility fee may not be collected from a passenger in Alaska aboard an aircraft having a seating capacity of less than 60 passengers.” The carriers operating the EAS subsidized routes identified in items (1) through (7) above are exempt under § 158.9(a). The remaining carriers operating on those routes fall under the new provision of the Ford Act described above and, therefore, are also exempt.

Brief Description of Projects Approved for Collection and Use:

Acquire security access control system.

Acquire SRE.

Improve airport access roads.

Acquire airport security vehicle.

Relocate automated surface observation system.

Acquire SRE.

Brief Description of Disapproved Project: Terminal carpet rehabilitation.

Determination: Disapproved. The FAA considers this a maintenance item and, under paragraph 501 or FAA Order 5100.38A, Airport Improvement Program Handbook (October 24, 1989), maintenance projects are specifically ineligible. Therefore, this project doesn't meet the requirements of § 158.15 (b)(1).

Decision Date: May 5, 2000.

FOR FURTHER INFORMATION CONTACT: Debbie Roth, Alaska Region Airports Division, (907) 271-5443.

Public Agency: Metropolitan Washington Airports Authority, Alexandria, Virginia.

Application Number: 98-03-C-00-IAD.

Application Type: Impose and use a PFC.

PFC Level: $3.00.

Total PFC Revenue Approved in This Decision: $29,423,619.

Earliest Charge Effective Date: April 1, 2011.

Estimated Charge Expiration Date: December 1, 2011.

Class of Air Carriers Not Required to Collect PFC's: Part 135 on-demand air taxis, both fixed wing and rotary.

Determination: Approved. Based on information contained in the public agency's application, the FAA has determined that the proposed class accounts for less than 1 percent of the total annual enplanements at Washington Dulles International Airport.

Brief Description of Project Approved for Collection and Use: Pedestrian connector to north flank garage.

Decision Date: May 5, 2000.

FOR FURTHER INFORMATION CONTACT: Terry Page, Washington Airports District Office, (703) 661-1370.

Public Agency: Metropolitan Washington Airports Authority, Alexandria, Virginia.

Application Number: 98-04-C-00-DCA.

Application Type: Impose and use a PFC.

PFC Level: $3.00.

Total PFC Revenue Approved in This Decision: $73,203,813.

Earliest Charge Effective Date: May 1, 2003.

Estimated Charge Expiration Date: November 1, 2006.

Class of Air Carriers Not Required to Collect PFC's: On-demand air taxis, both fixed wing and rotary.

Determination: Approved. Based on information contained in the public agency's application, the FAA has determined that the proposed class accounts for less than 1 percent of the total annual enplanements at Ronald Reagan Washington National Airport (DCA).

Brief Description of Projects Approved for Collection at DCA and Use at DCA:

Regional carrier concourse.

Terminal A apron rehabilitation.

Terminal A building rehabilitation.

Terminal connector expansion.

Brief Description of Project Approved for Collection at DCA and Use at Washington Dulles International Airport (IAD): IAD Concourse A rehabilitation.

Decision Date: May 5, 2000.

FOR FURTHER INFORMATION CONTACT: Terry Page, Washington Airports District Office, (703) 661-1370.

Public Agency: City of McAllen, Texas.

Application Number: 00-02-C-00-MFE.

Application Type: Impose and use a PFC.

PFC Level: $3.00.

Total PFC Revenue Approved in This Decision: $2,424,500.

Earliest Charge Effective Date: January 1, 2002.

Estimated Charge Expiration Date: September 1, 2004.

Class of Air Carriers Not Required to Collect PFC's: None.

Brief Description of Projects Approved for Collection and Use:

Runway 31 approach safety area improvements.

Passenger lift device.

Acquire aircraft rescue and firefighting (ARFF) vehicle.

Construct blast pads.

Master plan update/terminal area study.

PFC administrative costs.

Decision Date: May 12, 2000.

FOR FURTHER INFORMATION CONTACT:

G. Thomas Wade, Southwest Region Airports Division, (817) 222-5613.

Public Agency: City of La Crosse, Wisconsin.

Application Number: 00-05-C-00-LSE.

Application Type: Impose and use a PFC.

PFC Level: $3.00.

Total PFC Revenue Approved in This Decision: $689,208.

Earliest Charge Effective Date: September 1, 2000.

Estimated Charge Expiration Date: April 1, 2003.

Class of Air Carriers Not Required to Collect PF's: None.

Brief Description of Projects Approved for Collection and Use:

Install approach light system.

Master plan update.

Reconstruct runway 18/36 phases 2 and 3.

Install ground level passenger loading bridges.

PFC administration.

Decision Date: May 12, 2000.

FOR FURTHER INFORMATION CONTACT: Sandra E. Depottey, Minneapolis Airports District Office, (612) 713-4363.

Public Agency: City of Idaho Falls, Idaho.

Application Number: 00-03-C-00-IDA.

Application Type: Impose and use a FPC.

PFC Level: $3.00.

Total PFC Revenue Approved in This Decision: $2,640,000.

Earliest Charge Effective Date: November 1, 2000.

Estimated Charge Expiration Date: September 1, 2009.

Class of Air Carriers Not Required to Collect PFC's: None.

Brief Description of Project Approved for Collection and Use: Terminal renovation and expansion.

Decision Date: May 15, 2000.

FOR FURTHER INFORMATION CONTACT: Suzanne Lee-Pang, Seattle Airports District Office, (425) 227-2654.

Public Agency: City of Twin Falls, Idaho.

Application Number: 00-02-C-00-TWF.

Application Type: Impose and use a FPC.

PFC Level: $3.00.

Total PFC Revenue Approved in This Decision: $483,040.

Earliest Charge Effective Date: July 1, 2002.

Estimated Charge Expiration Date: January 1, 2007.

Class of Air Carriers Not Required to Collect PFC's: Air taxi/commercial operators utilizing aircraft having a seating capacity of less than 20 passengers.

Determination: Approved. Based on information contained in the public agency's application, the FAA has determined that the proposed class accounts for less than 1 percent of the total annual enplanements at Joslin Field-Magic Valley Regional Airport.

Brief Description of Projects Approved for Collection and Use:

Reconstruction of northwest apron.

Airport signing system update.

ARFF vehicle and equipment.

Terminal building auto parking and lighting.

Apron expansion.

Medium intensity taxiway lighting system.

ARFF building.

Runway 7/25 cable system rehabilitation and wind cone replacement.

Rehabilitation of runway 7/25.

Decision Date: May 15, 2000.

FOR FURTHER INFORMATION CONTACT: Suzanne Lee-Pang, Seattle Airports District Office, (425) 227-2654.

Public Agency: County of Marquette, Marquette, Michigan.

Application Number: 00-05-C-00-SAW.

Application Type: Impose and use a FPC.

PFC Level: $3.00.

Total PFC Revenue Approved in This Decision: $369,235.

Earliest Charge Effective Date: June 1, 2000.

Estimated Charge Expiration Date: November 1, 2002.

Class of Air Carriers Not Required to Collect PFC's: None.

Brief Description of Projects Approved for Collection and Use:

Access road to terminal.

Part 77 grading.

Furnish and install very high frequency omni-directional radio range and distance measuring equipment.

Rehabilitate terminal apron.

Hangar rehabilitation.

Terminal area lighting.

Groove runway 1/19.

Joint repairs on runway 1/19.

Taxiway relighting.

Taxiway rehabilitation and construction.

Instrument landing system paving.

Renovate building 600.

Environmental assessment for north access road and runway 13/31.

North access road (preliminary design only).

Decision Date: May 26, 2000.

FOR FURTHER INFORMATION CONTACT: Jon Gilbert, Detroit Airports District Office, (734) 487-7281.

Amendments to PFC Approvals
Amendment no., city and state | Amendment approved date | Original approved net PFC revenue | Amended approved net PFC revenue | Original estimated charge exp. date | Amended estimated charge exp. date
98-03-C-02-CRW, Charleston, WV | 04/03/00 | $662,687 | $762,090 | 02/01/01 | 01/01/01
98-05-U-01-CRW, Charleston, WV | 04/03/00 | NA | NA | 02/01/01 | 01/01/01
98-03-C-01-BPT, Beaumont, TX | 04/13/00 | 667,020 | 1,144,739 | 11/01/00 | 12/01/03
92-01-I-06-PHL, Philadelphia, PA | 04/28/00 | 104,050,000 | 103,824,405 | 07/01/11 | 07/01/11
93-02-U-01-PHL, Philadelphia, PA | 04/28/00 | NA | NA | 07/01/11 | 07/01/11
98-01-C-01-GLH, Greenville, MS | 05/04/00 | 57,897 | 66,581 | 07/01/00 | 08/01/00
97-01-C-01-AZO, Kalamazoo, MI | 05/11/00 | 3,276,183 | 1,594,993 | 12/01/01 | 06/01/00
92-01-C-01-SBS, Steamboat Springs, CO | 05/15/00 | 1,887,337 | 159,576 | 04/01/12 | 06/01/97
98-02-C-01-EAT, Wenatchee, WA | 05/15/00 | 307,000 | 404,184 | 10/01/00 | 11/01/00

Issued in Washington, DC on June 26, 2000.
Eric Gabler,
Manager, Passenger Facility Charge Branch.

[FR Doc. 00-16664 Filed 6-29-00; 8:45 am]

BILLING CODE 4910-13-M